CONSUMER PRODUCT SAFETY COMMISSION

Sunshine Act Meeting

Time and Date: Thursday, February 16, 2006; 10 a.m.

Place: Room 420, Bethesda Towers, 4330 East West Highway, Bethesda, Maryland.

Status: Open to the public.

Matters to be Considered:

Final Rule for the Flammability (Open Flame) of Mattress Sets

The Commission will consider a final rule under the Flammable Fabrics Act for mattress flammability (open flame).

For a record message containing the latest agenda information, call (301) 504-7948.

Contact Person For More Information: Todd A. Stevenson, Office of the Secretary, U.S. Consumer Product Safety Commission, 4330 East West Highway, Bethesda, MD 20814 (301) 504-7923.

Dated: February 3, 2006.
Todd A. Stevenson
Secretary.

[FR Doc. 06-1153 Filed 2-3-06:10:57 am]

BILLING CODE 6355-01-M